ENVIRONMENTAL PROTECTION AGENCY

[FRL-7601-8]

Notice of Availability and Opportunity To Comment on the “Draft CERCLA Model Application/Information Request for Service Station Dealers” for Section 114(c) of the Comprehensive Environmental Response, Compensation and Liability Act (CERCLA); Notice of Public Meeting

AGENCY: Environmental Protection Agency.

ACTION: Notice of availability and opportunity for public comment; notice of public meeting.

SUMMARY: The U.S. Environmental Protection Agency (EPA) is announcing a 60-day public comment period for the document entitled “Draft Model CERCLA Application/Information Request for Service Station Dealers.” EPA also is announcing a public meeting to discuss questions and comments on the draft model document.

DATES: Comments on the “Draft Model CERCLA Application/Information Request for Service Station Dealers” must be received by April 5, 2004. The public meeting will be held on Wednesday, March 3, 2004 from 1 to 4 pm.

ADDRESSES: Comments may be sent by e-mail to boushell.susan@epa.gov, mailed to Susan Boushell, Office of Site Remediation Enforcement (Mail Code 2273A), U.S. Environmental Protection Agency, 1200 Pennsylvania Avenue, NW., Washington, DC 20006, or delivered to Susan Boushell, Ariel Rios South Building, 1200 Pennsylvania Avenue, NW., Room 6233Q, Washington, DC 20006, (202) 564-2173. The public meeting will be held in room 6226 of EPA's Ariel Rios South Building, 1200 Pennsylvania Avenue, NW., Washington, DC.

FOR FURTHER INFORMATION CONTACT: Susan Boushell, EPA's Office of Site Remediation Enforcement, (202) 564-2173 or boushell.susan@epa.gov.

SUPPLEMENTARY INFORMATION: Under CERCLA Section 114(c), certain service station dealers may be exempt from liability under section 107(a)(3) or 107(a)(4) for a release or a threatened release of recycled oil. In 2002, EPA issued a memorandum entitled “Use of CERCLA Section 114(c) Service Station Dealers Exemption,” which discusses the scope of the exemption and encourages EPA Regions to consider its application at sites involving used oil. A copy of this memorandum may be found on EPA's Web page at http://www.epa.gov/compliance/resources/policies/cleanup/superfund/serv-sta-exemp-mem.pdf.

EPA currently is developing a model CERCLA application/information request which is focused specifically on the service station dealer industry. This targeted application/information request generally would be used in lieu of a more general information request for any party EPA has reason to believe may be eligible for the service station dealer exemption. EPA believes the model document would provide an efficient method for gathering the information necessary to decide which parties it should or should not treat as potentially responsible parties (PRPs) at a particular Superfund site.

At some sites, EPA will not have sufficient information regarding the identities of potential service station dealers until after a more general request for information has been issued to parties at the site. At those sites where EPA has reason to believe there may be service station dealers (e.g., a waste oil recycling facility), the Agency would include a statement in the general information request or general notice letter (whichever is sent first) that a party may request the targeted application/information request for service station dealers.

A copy of the “Draft Model CERCLA Application/Information Request for Service Station Dealers” is published below and will be available on the Internet at http://cfpub.epa.gov/compliance/resources/policies/cleanup/superfund/ssde-draftmod-104e-mem.pdf for review and comment by interested parties. The public meeting will include a brief overview of the draft model, followed by a question, answer and comment period. Those planning to attend the meeting should call Susan Boushell at (202) 564-2173 by Thursday, February 26, 2004, so their names can be added to a security list.

After EPA considers and incorporates, as appropriate, comments received during the public review process, EPA will publish a notice of availability of the final model application/information request in the Federal Register.

Dated: January 29, 2004.
Susan Bromm,
Director, Office of Site Remediation Enforcement.

Draft Model CERCLA Application/Information Request for Service Station Dealers

[Date]

Certified Mail

Return Receipt Requested

[Recipient Name]

[Recipient Address]

Re: Application/Information Request for the Service Station Dealer Exemption

Dear [Recipient]: ____

The United States Environmental Protection Agency (EPA) is currently working to clean up the [name] Site located in [city, state] under the federal Superfund program. Superfund is a program administered by EPA that is designed to clean up hazardous substances that may pose a threat to human health or the environment. A Site Information Sheet describing the history, conditions and EPA's efforts at the [name] Site is attached to this letter.

EPA is sending this letter to you because EPA has reason to believe that you or your business may have sent hazardous substances to the [name] Site. However, you may qualify for an exemption called the “Service Station Dealer Exemption.” If EPA considers you to be exempt, EPA would not require you to help pay for cleanup activities at the site. To help EPA make this decision, you are requested to respond to the questions in the attached Application/Information Request within thirty (30) days of receipt of this letter. Below this letter provides a brief overview of the Superfund program, describes the Service Station Dealer Exemption, and explains the process for completing the Application/Information Request.

Background

Under the Superfund law, EPA has the authority to take action at a site contaminated with high levels of hazardous substances that may present a threat to human health or the environment. (The full name of the Superfund law is the Comprehensive Environmental Response, Compensation and Liability Act, or “CERCLA,” 42 U.S.C. 9601-9674.) The Superfund law also authorizes EPA to require the parties who are responsible for the contamination (“potentially responsible parties” or “PRPs”) to help clean up the site.

The law, however, contains several exemptions which may reduce or eliminate a party's responsibility for cleanup, including the Service Station Dealer Exemption under section 114(c) of CERCLA, 42 U.S.C. 9614(c). An EPA memorandum discussing the scope of the exemption can be found on EPA's Web page at http://www.epa.gov/compliance/resources/ policies/cleanup/superfund/serv-sta-exemp-mem.pdf. To help EPA decide whether or not to treat a party as a PRP at a site, section 104(e) of CERCLA allows EPA to require a party to provide information regarding its involvement at the site.

Service Station Dealer Exemption

EPA is sending you this letter and attached Application/Information Request because EPA has reason to believe that you or your business may qualify for the Service Station Dealer Exemption. You may be eligible for the Service Station Dealer Exemption if you:

(1) Are or were a Service Station Dealer;

(2) Collected “Do-It-Yourselfer” Used Oil (also referred to as DIY Used Oil);

(3) Transported or sent this Do-It-Yourselfer Used Oil to the [name] Site after March 8, 1993;

(4) Did not mix hazardous substances with Used Oil generated or collected by your facility; and

(5) complied with the Used Oil management standards found in the Code of Federal Regulations (40 CFR Part 279).

Each of the italicized terms is defined in the “Definitions” section of the Application/Information Request. If you owned or operated the [name] Site, you would not qualify for the Service Station Dealer Exemption.

Application/Information Request

EPA is requesting that you respond to the attached Application/Information Request within thirty (30) days of your receipt of this letter. The Instructions for completing the Application/Information Request begin on page 11. The Definitions that apply to this Application/Information Request begin on page 14, immediately after the Instructions. The Instructions and Definitions are very important and may affect your response. Please read them carefully before answering any questions.

Please send your response to this letter within thirty (30) days to:

Please note that your response to this Application/Information Request is required by law. Please also note that false, fictitious, or fraudulent statements or representations may subject you to civil or criminal penalties under Federal law.

After EPA receives your response, EPA will determine if any additional information from you is necessary before deciding whether or not to treat you as a PRP at the [name] Site. Once EPA has received all the information needed regarding the exemption, EPA will contact you regarding its decision as soon as possible.

Additional Information

If you have any questions regarding this letter, please contact [name and phone number of regional contact]. For additional information on the Superfund law, including the Service Station Dealer Exemption and other exemptions that may apply, please see EPA's Web site at http://www.epa.gov/compliance/cleanup/superfund/index.html. Last, enclosed with this letter is a Small Business Regulatory Enforcement Fairness Act (SBREFA) fact sheet, which includes information that may be helpful to small businesses.

Thank you for your cooperation in responding to this Application/Information Request.

Sincerely,

Attachments

Site Information Sheet

Small Business Information Sheet

Application/Information Request

Appendix A to Application/Information Request

Appendix B to Application/Information Request

*Please Read the Instructions and Definitions Before Completing*

Application/Information Request

Please fill out this Application/Information Request as completely and accurately as possible. In preparing your response, refer to any records, receipts, cancelled checks, invoices and other documents which will help you to provide accurate and complete responses. Also consult with other people who may have information. At the end of this Application/Information Request, you will be asked to certify that your answers are correct and accurate to the best of your knowledge.

The Instructions for the Application/Information Request begin on page 11. The Definitions for the words in italics begin on page 14, immediately after the Instructions. The Instructions and Definitions are very important and may affect your response. Please read them carefully before answering any question.

Answer the following questions by marking the appropriate box(es) and/or filling in the space(s) provided. If additional space is required, please provide your answer(s) on additional sheets.

1. Name of the Person Completing Application/Information Request

In the spaces below, state the name, title, address and telephone number of the person completing this Application/Information Request.

Name

Title (if any)

Address

Telephone

2. Name and Address of the Business

Name

Address

Telephone

3. Determination That Exemption Does Not Apply

Have you already determined that the Service Station Dealer Exemption does not apply to the Business?

☐ yes ☐ no

If “yes,” answer only questions 6, 14 and 15 and complete the chart in Appendix A. Then STOP and sign the certification at the end of this Application/Information Request.

4. Description of the Business

(A) Is the Business a motor vehicle service station, filling station, garage, or similar retail business involved in the sale, repair, or servicing of motor vehicles?

☐ yes ☐ no

(B) Is the Business a Government Agency that established a facility solely for the purpose of accepting Do-It-Yourselfer Used Oil (DIY Used Oil)?

☐ yes ☐ no

If “yes,” state:

1. The name of the facility established to accept DIY Used Oil

2. The address of the facility

3. The EPA ID Number, if any

4. The State ID Number, if any

5. The date that the facility was established

6. The date(s) that the facility accepted DIY Used Oil

(C) Is the Business a Refuse Collection Service compelled by State law to collect, accumulate and deliver DIY Used Oil?

☐ yes ☐ no

If “yes,” state:

1. The name of the Refuse Collection Service compelled to accept DIY Used Oil

2. The EPA ID Number, if any

3. The State ID Number, if any

4. The date(s) that Refuse Collection Service accepted DIY Used Oil

5. The citation, name, and date of the law that compelled the Refuse Collection Service to accept DIY Used Oil

(D) ☐ The Business is/was not any of the above

If you checked (D):

1. Describe the Business (e.g., the type and nature of its operations):

2. Answer only Questions 6, 14 and 15 and complete the chart in Appendix A. Then STOP and sign the certification at the end of this Application/Information Request.

5. Collection of Do-It-Yourselfer Used Oil

Does the Business accept or did the Business ever accept DIY Used Oil?

☐ yes ☐ no ☐ don't know

If “yes,” provide the date(s) (or, if over an extended period of time, a range of dates, e.g., May 1986 to April 1998) that the Business accepted DIY Used Oil:

If “no,” answer only Questions 6, 14 and 15 and complete the chart in Appendix A. Then STOP and sign the certification at the end of this Application/Information Request.

6. Relationship to the [Name] Site

(A) At any time, did the Business own or operate any portion of the [name] Site?

☐ yes ☐ no ☐ don't know

(B) Did the Business send or arrange to send Used Oil to the [name] Site?

☐ yes ☐ no ☐ don't know

If “yes,” complete the chart in Appendix A.

(C) Did the Business send or arrange to send waste or other materials (that were not Used Oil) to the [name] Site?

☐ yes ☐ no ☐ don't know

If “yes,” complete the chart in Appendix A.

7. Percentage of Gross Revenue From Fueling, Repairing or Servicing Motor Vehicles

Do you know the percentage of gross revenue that the Business received from the fueling, repair, servicing of or similar work on motor vehicles for each year that the Business sent Used Oil to the [name] Site?

☐ yes ☐ no ☐ don't know

If “yes,” complete the chart in Appendix B.

8. Used Oil Management

Did the Business place any of the following in tank(s) or container(s) the Business used to store Used Oil (including DIY Used Oil)? (Mark all those that apply. Dates may be listed separately or over a period of time, e.g., 5/29/94-9/4/96.)

(A) Automobile coolant/antifreeze

☐ yes; always

Dates _____

☐ yes; sometimes

Dates _____

☐ no; never

☐ don't know

(B) Solvents, degreasers, cleaners, or similar products, including carburetor and brake cleaners and rags or wipes containing solvents or degreasers

☐ yes; always

Dates _____

☐ yes; sometimes

Dates _____

☐ no; never

☐ don't know

(C) Polychlorinated Biphenyl (PCB) oils or other materials containing PCBs

☐ yes; always

Date(s) _____

☐ yes; sometimes

Date(s) _____

☐ no; never

☐ don't know

Note: PCBs may be found in oils from transformers, capacitors, voltage regulators, circuit breakers, switches, reclosers, electromagnets, fluorescent lamp ballasts, starting aids for small motors in refrigerators and washing machines, sealants and oil reservoirs in vapor diffusion or vacuum or water well pumps, hydraulic system fluids, heat transfer fluids.)

(D) Waste lead-acid or mercury-containing batteries or their components

☐ yes; always

Date(s) _____

☐ yes; sometimes

Date(s) _____

☐ no; never

☐ don't know

(E) Asbestos-containing brake shoes or pads

☐ yes; always

Date(s) _____

☐ yes; sometimes

Date(s) _____

☐ no; never

☐ don't know

(F) Scrap metal with lead solder (e.g., radiators)

☐ yes; always

Date(s) _____

☐ yes; sometimes

Date(s) _____

☐ no; never

☐ don't know

(G) Mercury switches (e.g., automotive convenience lighting)

☐ yes; always

Date(s) _____

☐ yes; sometimes

Date(s) _____

☐ no; never

☐ don't know

(H) Paint, paint thinner, rags contaminated with paint or paint thinner

☐ yes; always

Date(s) _____

☐ yes; sometimes

Date(s) _____

☐ no; never

☐ don't know

(I) Pesticides (e.g., arsenic compounds, cyanide compounds, chlordane, 2,4-D, endrin, heptachlor, lindane, pyridine, toxaphene, silvex/2,4,5-TP)

☐ yes; always

Date(s) _____

☐ yes; sometimes

Date(s) _____

☐ no; never

☐ don't know

(J) Other materials

☐ yes; always

Date(s) _____

☐ yes; sometimes

Date(s) _____

☐ no; never

☐ don't know

If other hazardous substances were added to Used Oil (including DIY Used Oil) collected or generated by the Business, describe what was added:

9. Storage

What was used to store Used Oil? (Mark all those that apply. Dates may be listed separately or over a period of time, e.g., 5/29/94-9/4/96.)

(A) Container(s) (e.g., 55-gallon drum, bucket, dumpster)

☐ yes; always

Date(s) _____

Container type(s) _____

☐ yes; sometimes

Date(s) _____

Container type(s) _____

☐ no; never

☐ don't know

(B) Aboveground tank(s)

☐ yes; always

Date(s) _____

☐ yes; sometimes

Date(s) _____

☐ no; never

☐ don't know

(C) Underground tank(s)

☐ yes; always

Date(s) _____

☐ yes; sometimes

Date(s) _____

☐ no; never

☐ don't know

(D) Other storage unit(s) (e.g., containment building, basement, vault, sump, wastewater treatment unit, surface impoundment, holding pit, storage pit, settling pit, aeration pit, pond, lagoon, pile, trench, gutter, roll-off box)

☐ yes; always

Date(s) ____

Unit type(s) ____

☐ yes; sometimes

Date(s) ____

Unit type(s) ____

☐ no; never

☐ don't know

(E) ☐ Unknown

10. Labeling of Tanks, Containers and Fill Pipes

(A) Were Tank(s) and Container(s) the Business used to store Used Oil labeled or clearly marked with the words “Used Oil” at all times after March 8, 1993?

☐ yes; always

Date(s) ____

☐ yes; sometimes

Date(s) ____

☐ no; never

☐ don't know

☐ not applicable (i.e., the Business did not store DIY Used Oil)

(B) Were underground storage tank fill pipes the Business used to transfer Used Oil, labeled or clearly marked with the words “Used Oil” at all times after March 8, 1993?

☐ yes; always

Date(s) ____

☐ yes; sometimes

Date(s) ____

☐ no; never

☐ don't know

☐ not applicable (i.e., the Business did not use Underground Storage Tank fill pipes)

11. Condition of Tanks and Containers

(A) Did the Business, at any time after March 8, 1993, manage Used Oil in Tanks or Containers which were leaking, severely rusted, or had apparent structural defects or deterioration?

☐ yes

Each date of discovery____

☐ no; never

☐ don't know

☐ not applicable (i.e., the Business did not accept DIY Used Oil for collection)

(B) If “yes,” describe what the Business did when it discovered container(s) that had structural defects or that were leaking or severely rusting or deteriorating. (Include a description of the steps taken to stop any leaks; to address any release of oil; and to repair or replace the container):

12. Spill Prevention and Containment

(A) At any time after March 8, 1993, did the Business have or does the Business currently have: (1) a total aboveground oil storage capacity of greater than 1,320 gallons; (2) oil storage capacity greater than 660 gallons capacity in a single aboveground container; or (3) a total underground oil storage capacity of 42,000 gallons?

☐ yes ☐ no ☐ don't know

(B) If “yes,” state:

The amount of such oil storage capacity:

The date(s) the Business had such capacity:

(C) If “yes,” does the Business have a Spill Prevention, Control and Countermeasures (SPCC) Plan?

☐ yes

☐ no

☐ don't know

☐ not applicable (i.e., the Business does not have the storage capacity listed)

(D) If you answered “yes” to Question 12(B), state whether there was ever a leak or release from any of these units.

☐ yes ☐ no ☐ don't know

If “yes”:

State the each date(s) of the release(s)

Describe the steps the Business took to address the release(s)

(E) If the Business had or currently has a Spill Prevention, Control and Countermeasures Plan (SPCC Plan), does or did the Business follow it?

☐ yes, always

Dates SPCC Plan Followed ___

☐ yes, sometimes

Dates SPCC Plan Followed ___

☐ no

☐ don't know

☐ not applicable (i.e., the Business has not had the storage capacity listed)

(F) Provide a copy of each SPCC Plan the Business had from March 8, 1993 to present.

(G) If, at any time after March 8, 1993, the Business stored Used Oil in Underground Storage Tanks, provide:

Date(s) Underground Storage Tanks used:

Description of Leak Detection System:

(H) If the Business stores or stored Used Oil in Underground Storage Tanks, describe what, if anything, the Business does or did to monitor those tanks for leaks or releases:

13. Notification to the Public That the Business Accepted DIY Oil

How was the public notified that the Business accepted DIY Oil? (Mark all that apply)

☐ Sign at premises

☐ Notice on Service Sign-in Form

☐ Newspaper

☐ Leaflets/Pamphlets

☐ Radio, television

☐ Through listing on the Internet

☐ Through registration, licensing or permitting by a state/county/municipal/local government to manage Used Oil (“Used oil collection center”)

☐ Through 1 (800) CLEAN-UP (EPA- and business-sponsored helpline)

☐ Other

14. Request for Copies of Documents and Records

For each shipment listed on Appendix A, provide a copy of each document, including log books, bills of lading, manifests, proofs of delivery, waste tickets, waste analyses, contracts, check stubs and any other information (e.g., correspondence, photographs) you have about the materials transported to the [name] Site.

15. Other Information

Please provide any information you have about: (1) other persons who may have knowledge or information that may assist EPA in its investigation of the [name] Site or who may be responsible for the contamination found at the Site; or (2) persons you consulted in completing this Application/Information Request. Please attach any related documents.

Name

Title (if any)

Employer

Bus. Address

Bus. Tel.

Name

Title (if any)

Employer

Bus. Address

Bus. Tel.

(Continue on separate sheet(s), as necessary)

Certification of Responses

I, _______, swear, under penalty of perjury, that the answers provided in response to this Application/Information Request are true and correct to the best of my knowledge, information and belief.

Signature

Title

Bus. Address

Date _____ Bus. Tel._____

Instructions

Under the authority of section 104(e)(2) of CERCLA (42 U.S.C. 9604(e)(2)), EPA requests your response to this Application/Information Request. Compliance with this Application/Information Request is required by law. Please note that false, fictitious, or fraudulent statements or representations may subject you to civil or criminal penalties.

1. Answer Every Question Completely. Unless otherwise indicated, a response must be made to each question in the Application/Information Request. For each question, if information responsive to this Application/Information Request is not in your possession, custody, or control, please identify the person(s) from whom such information may be obtained.

2. Provide the Best Information Available. Provide responses to the best of your ability, even if the information requested was never put down in writing or if the written documents are no longer available. You should seek out responsive information from current and former employees, franchisees, contractors, transporters and other agents and persons who may have information relevant to this Application/Information Request. Submission of incomplete responses when other responsive information is available to you will be considered non-compliance with this Application/Information Request.

3. Identify Sources of Answer. For each question, identify all the persons and documents on which you relied to produce your answer.

4. Dates. If you are requested to provide “each date” on which an activity took place, you must list every individual date on which that activity took place. Where dates are requested without a request to provide “each date”, you may list each date on which the activity at issue took place or, if the activity took place over an extended period, you may provide the period over which such activity took place (e.g., “5/29/94-9/4/96; 11/28/98-4/9/02”).

5. Continuing Obligation To Provide/Correct Information. Pursuant to CERCLA Section 104(e)(2), if additional information or documents responsive to this Request become known or available to you after you respond to this Request, you must supplement your response to EPA.

6. Confidential Information. The information requested herein must be provided even though you may contend that it includes confidential information or trade secrets. You may assert a confidentiality claim covering part or all of the information requested pursuant to section 104(e)(7)(E) and (F) of CERCLA (42 U.S.C. 9604(e)(7)(E) and (F)), section 3007(b) of RCRA, (42 U.S.C. 6927(b)), and 40 CFR 2.203(b).

To prove your claim of confidentiality, you must provide a statement that separately address the following points for each document for which you make a claim of confidentiality. State:

a. The portions of the information alleged to be entitled to confidential treatment;

b. The period of time for which confidential treatment is desired (e.g., until a certain date, until the occurrence of a specific event, or permanently);

c. Measures taken by you to guard against the undesired disclosure of the information to others;

d. The extent to which the information has been disclosed to others, and the precautions taken in connection with such disclosure;

e. Pertinent confidentiality determinations, if any, by EPA or other federal agencies, and a copy of any such determinations or reference to them, if available; and

f. Whether you assert that disclosure of the information would likely result in substantial harmful effects on your business' competitive position, and if so, what those harmful effects would be, why they should be viewed as substantial, and an explanation of the causal relationship between disclosure and such harmful effects.

See 40 CFR 2.204(e)(4).

To make a confidentiality claim, please stamp, write or type “Confidential” on all confidential responses and any related confidential documents. Confidential portions of otherwise non-confidential documents should be clearly identified. You should indicate a date, if any, after which the information no longer needs to be treated as confidential. Please submit a clean and a redacted version of any documents or response for which you claim confidentiality in a separate envelope.

All confidentiality claims are subject to EPA verification. It is important that you satisfactorily show that you have taken reasonable measures to protect the confidentiality of the information, that you intend to continue to do so, and that it is not and has not been obtainable by legitimate means without your consent. Information covered by such claim will be disclosed by EPA only to the extent permitted by CERCLA Section 104(e) and 40 CFR 2.205(c). If no such claim accompanies the information when it is received by EPA, it may be made available to the public by EPA without further notice to you.

7. Disclosure to EPA Contractor. Information that you submit in response to this Application/Information Request may be disclosed by EPA to authorized representatives of the United States, pursuant to 40 CFR 2.310(h), even if you assert that all or part of it is confidential business information. Please be advised that EPA intends to disclose all responses to this Application/Information Request to one or more of its private contractors for the purpose of organizing and analyzing the information contained in the responses to this Application/Information Request. If you submit information that you assert is entitled to treatment as confidential business information, you may comment on this intended disclosure within fourteen (14) days of receiving this Application/Information Request.

8. Personal Privacy Information. Personnel and medical files, and similar files the disclosure of which to the general public may constitute an invasion of privacy should be segregated from your responses, included on a separate sheet(s), and marked as “Personal Privacy Information”.

9. Objections to Questions. Even if you have objections to some or all the questions within the Application/Information Request, you are still required to respond to each of the questions.

10. If You Need More Space. If more space is required for you to provide full and complete answers to any question, use additional sheets of paper and attach these to your response.

Definitions

The following definitions shall apply to the following words as they appear in this Application/Information Request and the related Instructions and cover letter. All terms not defined here shall have their ordinary meaning, unless those terms are defined in CERCLA or the Resource Conservation and Recovery Act (“RCRA”), in which case the statutory or regulatory definitions shall apply.

1. The term “Aboveground Tank” means a tank used to store or process used oil that is not an underground storage tank.(See 40 CFR 279.1)

2. The term “the Business” means the company, the government or governmental entity, refuse collection service or other commercial enterprise to which this request for information is addressed and any agent, servant or employee of that company, governmental entity, refuse collection service or other commercial enterprise.

3. The term “Container” means any portable device in which a material is stored, transported, treated, disposed of, or otherwise handled. (See 40 CFR 279.1)

4. The term “Do-it-Yourselfer Used Oil” or “DIY Used Oil” means Household Do-it-Yourselfer Used Oil that was removed from the engine of a Light Duty Motor Vehicle or household appliance by the owner of such vehicle or appliance and was presented, by the owner, to the Business for collection, accumulation and delivery to an oil Recycling Facility. (See 42 U.S.C. 9614(c)(2); 40 CFR 279.1)

5. The term “Documents” means any object that records, stores, or presents information, and includes writings of any kind, formal or informal, whether or not wholly or partially in handwriting, including by way of illustration and not by way of limitation, any invoice, manifest, bill of lading, receipt, endorsement, check, bank draft, canceled check, deposit slip, withdrawal slip, order, correspondence, record book, minutes, memoranda of telephone and other conversations including meetings/agreements and the like, diary, calendar, desk pad, scrapbook, notebook, bulletin, circular, form, pamphlet, statement, journal, postcard, letter, telegram, telex, telescope, telefax, report, notice, message, analysis, comparison, graph, chart, map, interoffice or intra office communications, photostat or other copy of any documents, microfilm or other film record, photograph, sound recording on any type of device, punch card, disc pack, tape or other type of memory generally associated with computers and data processing (including printouts and the programming instructions and other written material necessary to use such punch card, disc, or disc pack, tape or other type of memory), every copy of each document that is not an exact duplicate of a document otherwise provided, every copy of each document that has any writing on it (including figures, notations, annotations, or the like), drafts of documents, attachments to or enclosures with any document, and every document referred to in any other document.

6. The term “Hazardous Substance” has the same definition as in subsection 101(14) of CERCLA, 42 U.S.C. 9601(14), and includes any mixtures of hazardous substances with any other substances. (See 42 U.S.C. 9601(14))

7. The term “Household Do-It-Yourselfer Used Oil” means oil that is derived from households, such as Used Oil generated by individuals who generate Used Oil through the maintenance of their personal vehicles. (See 40 CFR 279.1)

8. The term “Light Duty Vehicle” means a passenger car or passenger car derivative capable of seating twelve passengers or less. (See 40 CFR 86.1803-01)

9. The term “Recycled Oil” means any Used Oil that is reused, following its original use, for any purpose. This includes oil which is re-refined, reclaimed, burned or reprocessed. (See 42 U.S.C. 9614(c)(3); 42 U.S.C. 6903(3))

10. The term “Recycling Facility” means a Used Oil Processor/Used Oil Re-refiner, or Used Oil Burner, burning Used Oil for energy recovery. (See 42 U.S.C. 9614; 40 CFR 279.1)

11. The term “Service Station Dealer” means a:

(1) Motor vehicle service station, filling station, garage, or similar retail business involved in sales, repair, or service of motor vehicles;

(2) Government Agency that established a facility solely for the purpose of accepting Do-It-Yourselfer Used Oil; or

(3) Refuse Collection Service compelled by State law to collect, accumulate and deliver Do-It-Yourselfer Used Oil. (See 42 U.S.C. 9601(37)(A) & (B))

12. The term “Tank” means any stationary device, designed to contain an accumulation of used oil, which is constructed primarily of non-earthen materials (e.g., wood, concrete, steel, plastic) that provides structural support. (See 40 CFR 279.1)

13. The term “Transporter” means the person(s) who selected the [name] Site as a treatment or disposal site and transported the hazardous substances to that Site.

14. The term “Underground Tank” means a device meeting the definition of Tank whose entire surface area is totally below the surface of and covered by the ground. (See 40 CFR 260.10)

15. The term “Used Oil” means (1) any oil that has been refined from crude oil, or any synthetic oil that (2) has been used, and (3) contaminated by physical or chemical impurities as a result. Used Oil includes petroleum-based, water soluble, and also polymer-type lubricants that are contaminated through use. Used Oil includes Do-It-Yourselfer Used Oil (DIY Used Oil). Used Oils may include:

• spent automotive lubricating oils (including automotive and truck engine oil and engine, turbine or gear lubricants)

• transmission fluid

• brake fluid

• hydraulic fluid

• off-road engine oil

• spent industrial oils and process fluids (including compressor, turbine, and bearing oils, hydraulic oils and fluids)

• metalworking oils and fluid (including cutting, grinding, machining, rolling, stamping, quenching, coating fluid)

• gear oils

• electrical oils not containing polychlorinated biphenyls (PCBs). (See 42 U.S.C. 6903(36), 9614(c)(3); 40 CFR 279.1)

16. The term “Used Oil Burner” means a facility where Used Oil, not meeting the specification requirements in 40 CFR 279.11, is burned for energy recovery in devices identified in 40 CFR 279.61(a). (See 40 CFR 279.1)

17. The term “Used Oil Processor/Re-refiner” means a facility that processes Used Oil. (See 40 CFR 279.1)

18. The term “Used Oil Transporter” means any person who transports Used Oil, any person who collects Used Oil from more than one generator and transports the collected oil, and owners and operators of used oil transfer facilities. (See 40 CFR 279.1)

19. The terms “You” means the addressee of this Request; including, the addressee's officers, managers, employees, contractors, trustees, partners, successors, assigns, and agents.

Appendix A

Manifest #, bill of lading #, or shipment # | Date of delivery to [name] site | Total volume of shipment | Total volume of used oil | Transporter: carrier name, address, telephone, ID#(s) | Transport by the business or employee: state vehicle owner

Appendix B

Year | Percentage of service-related gross revenue
Note.—This Application/Information Request is not subject to the approval requirements of the Paperwork Reduction Act of 1995, 44 U.S.C. 3501 et seq.

[FR Doc. 04-2156 Filed 2-2-04; 8:45 am]

BILLING CODE 6560-50-P